DEPARTMENT OF HOUSING AND URBAN DEVELOPMENT

[Docket No. FR-5871-N-01]

Notice of Regulatory Waiver Requests Granted for the First Quarter of Calendar Year 2015

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2015, and ending on March 31, 2015.

FOR FURTHER INFORMATION CONTACT: For general information about this notice, contact Camille E. Acevedo, Associate General Counsel for Legislation and Regulations, Department of Housing and Urban Development, 451 Seventh Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the first quarter of calendar year 2015.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives first issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2015 through March 31, 2015. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2015) before the next report is published (the second quarter of calendar year 2015), HUD will include any additional waivers granted for the first quarter in the next report.

Accordingly, information about approved waiver requests pertaining to HUD regulations is provided in the Appendix that follows this notice.

Dated: June 16, 2015.
Tonya T. Robinson,
Principal Deputy General Counsel.

Appendix

Listing of Waivers of Regulatory Requirements Granted by Offices of the Department of Housing and Urban Development January 1, 2015 Through March 31, 2015

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The City of Eek, AK, requested a waiver of 24 CFR 58.22(a) with regard to the submission of an application for CDBG funds to the State of Alaska Department of Commerce, Community and Economic Development for the construction of a solid waste facility and the closing of the existing uncontrolled dumpsite. The new landfill would allow the city to close its existing, uncontrolled open dumpsite. The existing dumpsite is collocated with a honey-bucket dumpsite, allowing waste to mix with water. A new landfill is needed to eliminate the safety hazard of an unfenced dumpsite and to eliminate fecal contaminated water in the community.

Nature of Requirement: The second sentence of HUD's regulation at § 58.22(a), entitled “Limitation on activities pending clearance”, provides that until the Request for Release of Funds (RROF) and the related certification have been approved, neither a recipient nor any participant in the development process may commit non-HUD funds on or undertake an activity or project under a program listed in § 58.1(b) if the activity or project would have an adverse environmental impact or limit the choice of reasonable alternatives. A waiver is required because the city accepted and recorded a quitclaim deed transfer of surface and subsurface rights for the new landfill prior to receiving an approved RROF.

Granted By: Clifford Taffet, General Deputy Assistant Secretary for Community Planning and Development.

Date Granted: January 23, 2015.

Reason Waived: The above project will further the HUD mission and will advance HUD program goals to develop viable, quality communities—specifically, by constructing a much needed landfill and closing the existing, uncontrolled open dumpsite; the City of Eek did not willfully violate the applicable regulations; no HUD funds were committed; and the waiver would not result in any unmitigated, adverse environmental impact.

Contact: Nelson A. Rivera, Office of Environment and Energy, Office of Community Planning and Development, Department of Housing and Urban Development, 451 Seventh Street SW., Room 7134, Washington, DC 20410, telephone number (202) 402-4455.

• Regulation: 24 CFR 84.22(g), 85.21, and Appendix I, section N.2 of the Neighborhood Stabilization Program 2 (NSP2) Notice of funding Availability (NOFA).

Project/Activity: HUD regulations at 24 CFR 84.22(g), 24 CFR 85.21, and Office of Management and Budget (OMB) policy require NSP2 funds to be expended by September 30, 2015 or returned to the U.S. Treasury. However, 42 of the 56 NSP2 grantees have a substantial amount of program income that prevents them from meeting this requirement. For a listing of the affected NSP2 grantees see: https://www.hudexchange.info/resources/documents/NSP2-Program-Income-Waiver.pdf.

Nature of Requirement: The regulations at 24 CFR 84.22(g) and 24 CFR 85.21 state that recipients shall disburse funds available from repayments to and interest earned on a revolving fund, program income, rebates, refunds, contract settlements, audit recoveries and interest earned on such funds before requesting additional cash payments.

Granted By: Clifford Taffet, General Deputy Assistant Secretary for Community Planning and Development.

Date Granted: January 28, 2015.

Reason Waived: Compliance with these program requirements has hindered NSP2 grantees' ability to rapidly expend their line of credit funds as many have successfully generated substantial amounts of program income. Unlike the line of credit funds, program income is not subject to the September 30, 2015, deadline imposed by OMB. Loss of the grant funds would reduce the ability of these grantees to invest in declining neighborhoods. The line of credit funds are used for such purposes as: investment in distressed or foreclosed properties, rehabilitation and reconstruction of deteriorated homes, down payment assistance for purchasers of redeveloped properties, rental assistance for multifamily properties, demolitions of homes in areas with serious abandonment and vacancies, and land banking to manage properties in areas with little current demand for real estate. All of these activities would be curtailed if grantees cannot expend their line of credit funds. As of January 12, 2015, $71,843,226 was subject to loss and approximately 1,033 homes would go untreated if this amount of funding was lost.

Contact: Stanley Gimont, Director, Office of Block Grant Assistance, Office of Community Planning and Development, Department of Housing and Urban Development, 451 Seventh Street SW., Room 7286, Washington, DC 20410, telephone (202) 708-3587.

• Regulation: 24 CFR 92.500(d)(1)(C) .

Project/Activity: Spartanburg County, SC, requested a waiver of 24 CFR 92.500(d)(1)(C) to enable it complete the Ridge at Southport project, a housing project for low-income seniors, for which expenditures under the HOME Investment Partnerships Program (HOME) had been suspended pending resolution of HUD monitoring findings.

Nature of Requirement: The regulation at 24 CFR 92.500(d)(1)(C) requires that a participating jurisdiction expend its annual allocation of HOME funds within five years after HUD notifies the participating jurisdiction that HUD has executed the jurisdiction's HOME Investment Partnership Agreement. The regulation at 24 CFR 92.500(d)(1)(C) requires HUD to reduce or recapture any HOME funds in a participating jurisdiction's HOME Investment Trust Fund that are not expended within five years of HUD's notification to the participating jurisdiction that it has executed its HOME grant agreement. The County failed to disburse $92,686 of HOME grant funds by its July 31, 2014 deadline.

Granted By: Clifford Taffet, General Deputy Assistant Secretary for Community Planning and Development.

Date Granted: March 31, 2015.

Reason Waived: HUD instructed the County to cease HOME disbursements pending the resolution of HUD monitoring findings and the County could not disburse funds to the project for a two year period. The waiver was granted because deobligation of $92,686 of HOME funds would create an undue financial hardship for the County and jeopardize the completion of the Ridge at Southport project.

Contact: Virginia Sardone, Director, Office of Affordable Housing Programs, Office of Community Planning and Development, Department of Housing and Urban Development, 451 Seventh Street SW., Room 7164, Washington, DC 20410, telephone (202) 708-2486.

• Regulation: 24 CFR 570.208(a)(l)(ii) and CPD Notice 14-11.

Project/Activity: The City of Portage, MI, requested a waiver of 24 CFR 570.208(a)(1)(ii) to allow the city to remove a block group from its upper quartile calculation when it determines whether service areas for Community Development Block Grant (CDBG) assisted activities meet the national objective of providing benefit to low- and moderate-income persons on an area basis. The city maintained the block group is not representative of the actual population within the city.

Nature of Requirement: HUD's regulations at 24 CFR 570.208(a)(1)(ii) allow metropolitan cities and urban counties to qualify an activity under § 570.208(a), area benefit, when the area served contains less than 51% low and moderate income residents and when the proportion of low to moderate income persons in the area is within the highest quartile of all areas in the recipient's jurisdiction in terms of the degree of concentration of such persons. CPD Notice 14-11, which implements that regulation for current year grants, provides guidance on the use of updated Low/Moderate Income Summary Data (LMISD) by Entitlement CDBG grantees. The updated LMISD are based upon a new process incorporating the 2006-2010 American Community Survey. The Notice requires grantees to use the updated LMISD, effective July 1, 2014, to determine whether service areas for CDBG-assisted activities meet the national objective of providing benefit to low- and moderate-income persons on an area basis.

Granted By: Clifford Taffet, General Deputy Assistant Secretary for Community Planning and Development.

Date Granted: January 8, 2015.

Reason Waived: The city has documented that the majority of census tract 18.02, as well as all of its population and households, is physically located within the city of Kalamazoo, which is not a part of the city of Portage's entitlement area. Block group 2 of census tract 18.02 is the only block group of this tract currently belonging to the city of Portage. This block group is surrounded by the city of Kalamazoo. The block group consists of 2.31 acres of land and has no residents, has no household income and is on the grounds of the Kalamazoo-Battle Creek International airport where no residents or housing units will be permitted. The waiver allowed the city to remove the block group from its upper quartile calculation because it is not representative of the actual population within the city and has limited its ability to use CDBG funds for the benefit of low/moderate income persons.

Contact: Steve Johnson, Director of Entitlement Communities Division, Office of Community Planning and Development, Department of Housing and Urban Development, 451 Seventh Street SW., Room 7282, Washington, DC 20410, telephone (202) 402-4548.

• Regulation: 24 CFR 570.208(a)(l)(vi) and CPD Notice 14-11.

Project/Activity: Snohomish County, WA, requested a waiver of 24 CFR 570.208(a)(l)(vi) to allow the use of prior Low and Moderate Income Summary Data for an infrastructure activity (sidewalk and storm water drainage improvements) in the City of Monroe in order to demonstrate compliance with the low- and moderate-income benefit national objective requirements.

Nature of Requirement: HUD's regulation at 24 CFR 570.208(a)(l)(vi) requires that the most recently available decennial census information must be used to the fullest extent feasible, together with the section 8 income limits that would have applied at the time the income information was collected by the Census Bureau, to determine whether there is a sufficiently large percentage of low- and moderate-income persons residing in the area served by a CDBG funded activity. The HUD-produced Low and Moderate Income Summary Data provide this data to grantees. On June 10, 2014, HUD issued new Low and Moderate Income Summary Data (LMISD), with an effective date of July 1, 2014 for use by grantees.

Granted By: Clifford Taffet, General Deputy Assistant Secretary for Community Planning and Development.

Date Granted: January 8, 2015.

Reason Waived: The request pertained to an infrastructure activity in the City of Monroe, which had been in the planning stage for many months, and was included in the county's Fiscal Year (FY) 2014 Annual Action Plan. The county had dedicated significant time and effort to designing this activity and ensuring that this activity met all applicable programmatic requirements. However, funds could not be obligated by the county to this activity prior to July 1, 2014, because the grant agreement was not executed until July 10, 2014, nine days after the effective date of the new LMISD. It was determined that, unless the waiver was granted for the county, this activity that directly benefits the safety of residents would not be completed due to the lack additional funds needed to conduct a special survey to qualify the service area. It was further determined that the waiver would allow the county to use the prior Low and Moderate Income Summary Data to demonstrate compliance with the low- and moderate-income benefit national objective requirements.

Contact: Steve Johnson, Director of Entitlement Communities Division, Office of Community Planning and Development, Department of Housing and Urban Development, 451 Seventh Street SW., Room 7282, Washington, DC 20410, telephone (202) 402-4548.

• Regulation: Neighborhood Stabilization Program 3 (NSP 3) Notice published on October 19, 2010, at 75 FR 64322 (II.H.3.F) in accordance with Title XII of Division A under the heading Community Planning and Development: Community Development Fund of the American Recovery and Reinvestment Act of 2009.

Project/Activity: Butler County, OH, requested a waiver of the 10 percent demolition cap under the Neighborhood Stabilization Program, which restricts grantees from spending more than 10 percent of total grant funds on demolition activities. Butler County requested a waiver to increase an earlier approved waiver from 22.6 percent ($300,000) to 24.8 percent ($330,000) to address the increasing costs associated with removing vacant units what will never be occupied again due to their unsafe and neglected condition and preserving housing units that enhance the stabilization of communities impacted from foreclosures and abandonment.

Nature of Requirement: Section II.H.3.F of the NSP3 Notice provides that a grantee may not use more than ten percent of its grant for demolition activities.

Granted By: Clifford Taffet, General Deputy Assistant Secretary for Community Planning and Development.

Date Granted: January 9, 2015.

Reason Waived: Butler County provided statistical data showing high vacancy and abandonment rates that resulted from significant population and job loss. The county also demonstrated that its NSP3 target areas of Hamilton and New Miami, Ohio, have not benefitted from the recovery that other areas have seen. Within the target areas, roughly 80 percent of the housing stock is pre-1979, and subsequently as older homes, lack energy efficient elements and are not affordable for low and moderate income families.

Contact: Jessie Handforth Kome, Deputy Director, Office of Block Grant Assistance, Office of Community Planning and Development, Department of Housing and Urban Development, 451 Seventh Street SW., Room 7286, Washington, DC 20410, telephone (202) 402-5539.

II. Regulatory Waivers Granted by the Office of Housing—Federal Housing Administration (FHA)

For further information about the following regulatory waivers, please see the name of the contact person that immediately follows the description of the waiver granted.

• Regulation: 24 CFR 219.220(b) (1995).

Project/Activity: Cottage Brook Apartments, FHA Project Number 023-069NIT, Boston, MA. The Owners requested a waiver of 24 CFR 219.220(b) (1995) to exempt Cottage Brook Apartments, Incorporated (owner) from the requirement to repay the Flexible Subsidy Operating Assistance Loan (Flexible Subsidy Loan) totaling $4,428,814.26, including accrued interest.

Nature of Requirement: HUD's regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.

Granted by: Biniam Gebre, Acting Assistant Secretary for Housing Federal Housing Commissioner, H.

Date Granted: January 26, 2015.

Reason Waived: The regulation was waived to permit the deferment of the repayment of the Flexible Subsidy Loan, plus accrued interest.

Contact: James Wyatt, Account Executive, Office of Housing, Department of Housing and Urban Development, 451 Seventh Street SW., Room 6172, Washington, DC 20410, telephone (202) 402-2636.

• Regulation: 24 CFR 219.220(b) (1995).

Project/Activity: Spring Gate Apartments, Newark New Jersey, FHA number 023057NI owned by Rockland Place Apartments, LP Rockland, MA. The Owner has requested a one year deferral of the Flexible Subsidy Loan in order to position the project for recapitalization and preservation as affordable housing.

Nature of Requirement: HUD's regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.

Granted by: Biniam Gebre, Acting Assistant Secretary for Housing-Federal Housing Commissioner.

Date Granted: February, 2015.

Reason Waived: The Owner requested and was granted waiver of the requirement to defer repayment of the Flexible Subsidy Operating Assistance Loan to allow the much needed preservation and moderate rehabilitation of the project. The project will be preserved as an affordable housing resource.

Contact: Minnie Monroe-Baldwin, Director of Preservation, Office of Affordable Housing Preservation, Department of Housing and Urban Development, 451 7th Street SW., Washington, DC 20410-8000, telephone: (202) 402-2636.

• Regulation: 24 CFR 266.200(b).

Project/Activity: Federal Financing Bank (FFB) Risk Sharing Initiative, Substantial Rehabilitation Defined. Eleven qualified Housing Finance Agencies (HFAs) participating.

Nature of Requirement: HUD's regulation at 24 CFR 266.200(b) Substantial Rehabilitation Defined. The following changes apply to both Level I and II Housing Finance Agencies Definition of Substantial Rehabilitation (S/R) revised as: Work that exceeds either: (a) $15,000 times the high cost factor “as adjusted by HUD for inflation”, or (b) replacement of two or more building systems. “Replacement” is when cost of replacement work exceeds 50% of the cost of replacing the entire system. This is consistent with proposed changes in the Multifamily Accelerated Processing (MAP) Guide.

Granted By: Biniam Gebre, Acting Assistant Secretary for Housing-Federal Housing Commissioner.

Date Granted: March 20, 2015.

Reason Waived: The waiver was necessary to effectuate the Federal Financing Bank (FFB) Risk Sharing Initiative between Housing and Urban Development and the Treasury Department/FFB announced in Fiscal Year 2014. There are 11 qualified HFAs participants. Concurrent with the rollout of the FFB Initiative, HUD's Office of Multifamily Housing is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(c).

Project/Activity: Federal Financing Bank (FFB) Risk Sharing Initiative, Equity Take-Outs. Eleven qualified Housing Finance Agencies (HFAs) participating.

Nature of Requirement: HUD's regulation at 24 CFR 266.200(c) addresses equity take-outs for existing projects (refinance transactions), and permits the insured mortgage to exceed the sum of the total cost of acquisition, cost of financing, cost of repairs, and reasonable transaction costs or “equity take-outs” in refinances of HFA-financed projects and those outside of HFA's portfolio if the result is preservation with the following conditions: (1) Occupancy is no less than 93% for previous 12 months; (2) no defaults in the last 12 months of the HFA loan to be refinanced; (3) a 20 year affordable housing deed restriction placed on title that conforms to the statutory definition in section 542(c) of the Housing and Community Development Act of 1992; (4) a Property Capital Needs Assessment (PCNA) must be performed and funds escrowed for all necessary repairs, and reserves funded for future capital needs; and (5) for projects subsidized by Section 8 Housing Assistance Payment (HAP) contracts, owner agrees to renew HAP contract(s) for 20 year term, (subject to appropriations and statutory authorization), and existing and post-refinance HAP residual receipts are set aside to be used to reduce future HAP payments.

Granted By: Biniam Gebre, Acting Assistant Secretary for Housing-Federal Housing Commissioner.

Date Granted: March 20, 2015.

Reason Waived: Waiver of the regulation was necessary to effectuate the Federal Financing Bank (FFB) Risk Sharing Initiative between Housing and Urban Development and the Treasury Department/FFB announced in Fiscal Year 2014. There are 11 qualified HFAs participants. Concurrent with the rollout of the FFB Initiative, HUD's Office of Multifamily Housing is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(d).

Project/Activity: Federal Financing Bank (FFB) Risk Sharing Initiative, Underwriting of Projects with Section 8 HAP Contracts. Eleven qualified Housing Finance Agencies (HFAs) participating.

Nature of Requirement: HUD's regulation at 24 CFR 266.200(d) addresses projects with Section 8 rental subsidies or other rental subsidies, and provides that refinancing of Section 202 projects the HFA is permitted to underwrite the mortgage using current or to be adjusted project-based Section 8 assisted rents, even though the rents exceed the market rates. This is consistent with HUD Housing Notice 2013-17—Updated Requirements for Prepayment and Refinance of Section 202 Direct Loans.

Granted By: Biniam Gebre, Acting Assistant Secretary for Housing-Federal Housing Commissioner.

Date Granted: March 20, 2015.

Reason Waived: The waiver was necessary to effectuate the Federal Financing Bank (FFB) Risk Sharing Initiative between Housing and Urban Development and the Treasury Department/FFB announced in Fiscal Year 2014. There are 11 qualified HFAs participants. Concurrent with the rollout of the FFB Initiative, HUD's Office of Multifamily Housing is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.620(e).

Project/Activity: Federal Financing Bank (FFB) Risk Sharing Initiative, Termination of Mortgage Insurance. Eleven qualified Housing Finance Agencies (HFAs) participating.

Nature of Requirement: HUD's regulation at 24 CFR 266.620(e), addresses termination of mortgage insurance provision (required for FFB Initiative), and in accordance with this regulation only Level I HFAs rated “A” or higher are permitted to substitute an indemnification agreement or similar document binding the FIFA to reimburse FHA for 100% of claim losses in the event the HFA commits fraud or mismanagement. Only Level I HFAs are eligible for FFB financing, thereby ensuring the HFA maintains financial capacity to perform under the indemnification agreement. If the HFA loses its “A” rating, HFA must post the required reserve account as outlined in 24 CFR part 266.

Granted By: Biniam Gebre, Acting Assistant Secretary for Housing-Federal Housing Commissioner.

Date Granted: March 20, 2015.

Reason Waived: The waiver was necessary to effectuate the Federal Financing Bank (FFB) Risk Sharing Initiative between Housing and Urban Development and the Treasury Department/FFB announced in Fiscal Year 2014. There are 11 qualified HFAs participants. Concurrent with the rollout of the FFB Initiative, HUD's Office of Multifamily Housing is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(c).

Project/Activity: Federal Financing Bank (FFB) Risk Sharing Initiative, Equity Take-Outs. Eleven qualified Housing Finance Agencies (HFAs) participates.

Nature of Requirement: HUD's regulation at 24 CFR 266.200(c) addresses equity take-outs for existing projects (refinance transactions), and permits the insured mortgage to exceed the sum of the total cost of acquisition, cost of financing, cost of repairs, and reasonable transaction costs or “equity take-outs” in refinances of HFA-financed projects and those outside of HFA's portfolio if the result is preservation with the following conditions: (1) Occupancy is no less than 93% for previous 12 months; (2) no defaults in the last 12 months of the HFA loan to be refinanced; (3) a 20 year affordable housing deed restriction placed on title that conforms to the statutory definition in section 542(c) of the Housing and Community Development Act of 1992; (4) a Property Capital Needs Assessment (PCNA) must be performed and funds escrowed for all necessary repairs, and reserves funded for future capital needs; and (5) for projects subsidized by Section 8 Housing Assistance Payment (HAP) contracts, owner agrees to renew HAP contract(s) for 20 year term, (subject to appropriations and statutory authorization), and existing and post-refinance HAP residual receipts are set aside to be used to reduce future HAP payments.

Granted By: Biniam Gebre, Acting Assistant Secretary for Housing-Federal Housing Commissioner.

Date Granted: March 20, 2015.

Reason Waived: The waiver was necessary to effectuate the Federal Financing Bank (FFB) Risk Sharing Initiative between Housing and Urban Development and the Treasury Department/FFB announced in Fiscal Year 2014. There are eleven qualified HFAs participates. Concurrent with the rollout of the FFB Initiative, Multifamily is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(d).

Project/Activity: Federal Financing Bank (FFB) Risk Sharing Initiative, Underwriting of Projects with Section 8 HAP Contracts. Eleven qualified Housing Finance Agencies (HFAs) participates.

Nature of Requirement: HUD's regulation at 24 CFR 266.200(d) addresses projects with Section 8 rental subsidies or other rental subsidies, and provides that refinancing of Section 202 projects the HFA is permitted to underwrite the mortgage using current or to be adjusted project-based Section 8 assisted rents, even though the rents exceed the market rates. This is consistent with HUD Housing Notice 2013-17—Updated Requirements for Prepayment and Refinance of Section 202 Direct Loans.

Granted By: Biniam Gebre, Acting Assistant Secretary for Housing-Federal Housing Commissioner.

Date Granted: March 20, 2015.

Reason Waived: The waiver was necessary to effectuate the Federal Financing Bank (FFB) Risk Sharing Initiative between Housing and Urban Development and the Treasury Department/FFB announced in Fiscal Year 2014. There are 11 qualified HFAs participants. Concurrent with the rollout of the FFB Initiative, HUD's Office of Multifamily Housing is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 891.100(d).

Project/Activity: Stroud Manor, Sulphur, LA, Project Number: 046-HD143/LA48-Q101-003.

Nature of Requirement: Section 891.100(d) prohibits amendment of the amount of the approved capital advance funds prior to closing.

Granted by: Biniam Gebre, Acting Assistant Secretary for Housing-Federal Housing Commissioner.

Date Granted: February 20, 2015.

Reason Waived: The project is economically designed and comparable in cost to similar projects in the area, and the sponsor/owner exhausted all efforts to obtain additional funding from other sources.

Contact: Alicia Anderson, Branch Chief, Grants and New Funding, Office of Housing, Department of Housing and Urban Development, 451 Seventh Street SW., Room 6138, Washington, DC 20410, telephone (202) 402-5787.

• Regulation: 24 CFR 891.130(b).

Project/Activity: Pollywog Creek Senior Housing, Lebelle, FL, Project Number: 066-EE120/FL29-S101-006.

Nature of Requirement: Section 891.130(b) prohibits an identify of interest between the sponsor or owner (or borrower, as applicable) and any development team member or between development team members until two years after final closing.

Granted by: Biniam Gebre, Acting Assistant Secretary for Housing-Federal Housing Commissioner.

Date Granted: February 11, 2015.

Reason Waived: The entities are all affiliated, non-profit, and have non-compensated officers. They meet HUD requirements.

Contact: Alicia Anderson, Branch Chief, Grants and New Funding, Office of Housing, Department of Housing and Urban Development, 451 Seventh Street SW., Room 6138, Washington, DC 20410, telephone (202) 402-5787.

III. Regulatory Waivers Granted by the Office of Public and Indian Housing

For further information about the following regulatory waivers, please see the name of the contact person that immediately follows the description of the waiver granted.

• Regulations: 24 CFR 5.216(b), 5.508(h) and 5.609.

Project/Activity: San Antonio, Texas.

Nature of Requirement: These regulations require applicants for and participation in covered HUD programs to disclose and submit documentation to verify their Social Security Numbers and immigration status, and for the public housing authority to obtain income information about the applicant or participant prior to determining eligibility.

Granted By: Jemine A. Bryon, Acting Assistant Secretary for Public Housing and Indian Housing.

Reason Waived: In accordance with 24 CFR 5.110 and by virtue of section B.1 of the Redelegation of Authority to the Deputy Assistant Secretaries for Public and Indian Housing published August 4, 2011 at 76 FR 47231, HUD found that good cause exists to grant a waiver to permit San Antonio Housing Authority (SAHA) to provide temporary housing assistance for families displaced by a fire at the former Wedgwood Apartments for up to 120 days until eligibility for assistance can be determined by SAHA. It has been generally represented to HUD that these displaced families are all at least low-income.

Contact: Todd Thomas, Housing Program Specialist, Office of Public Housing Management & Occupancy Division, Office of Public and Indian Housing, Department of Housing and Urban Development, 17th Floor, Atlanta, GA 30303, telephone (678) 732-2056.

• Regulation: 24 CFR 5.801(d)(1).

Project/Activity: Ogden Housing Authority (UT002) Ogden, UT.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: March 5, 2015.

Reason Waived: Pursuant to 24 CFR 5.110, the request to waive the reporting compliance deadlines under 24 CFR 5.801 and remove the LPF score of zero was granted. The circumstances that prevented resubmitting and correcting the audited financial data by the due date are acceptable. The agency had made good faith efforts during the submission process.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: Housing Authority of the City of Reno (NV001) Reno, NV.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: March 5, 2015.

Reason Waived: The circumstances that prevented the HA from resubmitting and correcting the unaudited financial data to be available for review by the auditor were beyond the agency's control. The agency made good faith efforts during the submission process. However, this Financial Assessment Subsystem (FASS) audited submission waiver (extension) does not apply to Single Audit submissions to the Federal Audit Clearinghouse. The HA is required to meet the Single Audit due dates.

Contact: Judy Wojciechowski, Program Manager, NASS, Real Estate Assessment Center, Office of Public and Indian Housing, Department of Housing and Urban Development, 550 12th Street SW., Suite 100, Washington, DC 20410, telephone (202) 475-7907.

• Regulation: 24 CFR 902.20.

Project/Activity: Tupelo of Mesa Housing Authority (MS077), Tupelo, MS.

Nature of Requirement: The objective of this regulation is to determine whether a housing authority (HA) is meeting the standard of decent, safe, sanitary, and in good repair. The Real Estate Assessment Center (REAC) provides for an independent physical inspection of a HA's property of properties that includes a statistically valid sample of the units.

Granted By: Jemine A. Bryon, Acting Assistant Secretary for Public and Indian Housing.

Date Granted: February 26, 2015.

Reason Waived: The circumstances surrounding the waiver request are unusual and beyond the agency's control. No physical inspections will be conducted for the HA's FYE December 31, 2015; however, HUD expects that physical inspections for all projects will resume for the HA's fiscal year ending December 31, 2016.

Contact: Judy Wojciechowski, Program Manager, NASS, Real Estate Assessment Center, Office of Public and Indian Housing, Department of Housing and Urban Development, 550 12th Street SW., Suite 100, Washington, DC 20410, telephone (202) 475-7907.

• Regulation: 24 CFR 943.115(b)(3).

Project/Activity: Greeley Housing Authority (GHA), Greeley, CO.

Nature of Requirement: This regulation states that a public housing agency may not participate in a consortium in its capacity as an owner of a Section 8 project

Granted By: Jemine A. Bryon, Acting Assistant Secretary for Public and Indian Housing.

Date Granted: March 10, 2015.

Reason Waived: These 20 project-based vouchers would provide decent, safe and sanitary housing for low-income elderly families that may not otherwise be obtainable due to the shrinking vacancy rate and oil and gas expansion and overall increase in economic activity.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.207(b)(1)(ii).

Project/Activity: New York City Housing Authority (NYCHA), New York, NY.

Nature of Requirement: This regulation states that a residency preference is a preference for admissions of persons who reside in a specific geographic area (“residency preference area”). A county or municipality may be used as a residency preference area; however, the regulation stipulates that “an area smaller than a county or municipality may not be used as a residency preference area.”

Granted By: Jemine A. Bryon, Acting Assistant Secretary for Public and Indian Housing.

Date Granted: January 15, 2015.

Reason Waived: The area known as Community Block 11 has a population of more than 120,000 which would rant in the top one percent of municipalities nationwide. Nearly 50 percent of seniors in CB11 live at or below the federal poverty level compared with just under 30 percent of seniors in the larger borough of Manhattan. This preference was granted for 25 percent of residents at Draper Hall, a project-based voucher project for the elderly, and only for initial leasing of the project and not in perpetuity.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Brookline Housing Authority (BHA), Brookline, MA.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: January 7, 2015.

Reason Waived: The participant, who is a person with disabilities, required an exception payment standard to remain in his current unit that meets his needs. To provide this reasonable accommodation so that the client could remain in his current unit and pay no more than 40 percent of his adjusted income toward the family share, the BHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the City of Alameda (HACA), Alameda, CA.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: January 26, 2015.

Reason Waived: The participant, who is a person with disabilities, required an exception payment standard to move to a new unit that meets her needs. To provide this reasonable accommodation so that the client could move to this unit and pay no more than 40 percent of her adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: February 11, 2015.

Reason Waived: The participant, who is a person with disabilities, required an exception payment standard to remain in his current unit that meets his needs. To provide this reasonable accommodation so that the client could remain in his current unit and pay no more than 40 percent of his adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Berkeley Housing Authority (BHA), Berkeley, CA.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: March 6, 2015.

Reason Waived: The participant, who is a person with disabilities, required an exception payment standard to move to a more accessible unit that met her needs. To provide this reasonable accommodation so that the client could move to this new unit and pay no more than 40 percent of her adjusted income toward the family share, the BHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: March 6, 2015.

Reason Waived: The participant, who is a person with disabilities, required an exception payment standard to remain in his current unit that meets his needs. To provide this reasonable accommodation so that the client could remain in his current unit and pay no more than 40 percent of his adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: South Metro Housing Options (SMHO), Littleton, CO.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: March 27, 2015.

Reason Waived: The applicant, who is a person with disabilities, required an exception payment standard to remain in her mobile home and rent the manufactured home space. To provide this reasonable accommodation so that the client could remain in her current unit and pay no more than 40 percent of her adjusted income toward the family share, SMHO was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Bangor Housing Authority (BHA), Bangor, ME.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramirez, Principal Deputy Assistant Secretary for Public and Indian Housing.

Date Granted: March 27, 2015.

Reason Waived: The applicant, who is a person with disabilities, required an exception payment standard to rent her manufactured home space for her mobile home. To provide this reasonable accommodation so that the client could remain in her current unit and pay no more than 40 percent of her adjusted income toward the family share, BHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 983.53(a)(2).

Project/Activity: Hall County Housing Authority (HCHA), Grand Island, NE.

Nature of Requirement: This regulation states that the public housing agency may not attach or pay project-based voucher assistance for units on the grounds of a penal, reformatory, medical, mental or similar public or private institutions.

Granted By: Jemine A. Bryon, Acting Assistant Secretary for Public and Indian Housing.

Date Granted: February 11, 2015.

Reason Waived: The project is part of the Veterans Affairs' (VA) Burr Initiative in which public and private developers bid on vacant VA land for housing development geared towards Veterans. The project will offer veterans supportive services including case management, substance abuse counseling, and other services to promote self-sufficiency. By housing additional homeless veterans, the HCHA will be assisting the Department in obtaining the goal of ending Veteran homelessness by the end of 2015.

Contact: Becky Primeaux, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Bellevue Housing Authority (BHA), Omaha, NE.

Nature of Requirement: HUD's regulation at 24 CFR 985.101(a) states a PHA must submit the HUD-required Section Eight Management Assessment Program (SEMAP) certification form within 60 calendar days after the end of its fiscal year.

Granted By: Jemine A. Bryon, Acting Assistant Secretary for Public and Indian Housing.

Date Granted: February 12, 2015.

Reason Waived: This waiver was granted because for its fiscal year ending June 30, 2014, the BHA was required to submit a SEMAP certification because it no longer had less than 250 vouchers. However, the BHA was mistakenly notified by the HUD Field Office on August 5, 2014, that is was not required to submit a SEMAP certification. BHA was permitted to submit its SEMAP certification after the due date.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Chesapeake Redevelopment and Housing Authority (CRHA), Chesapeake, VA.

Nature of Requirement: HUD's regulation at 24 CFR 985.101(a) states a PHA must submit the HUD-required Section Eight Management Assessment Program (SEMAP) certification form within 60 calendar days after the end of its fiscal year.

Granted By: Lourdes Castro Ramirez, Principal Deputy Assistant Secretary for Public and Indian Housing.

Date Granted: March 27, 2015.

Reason Waived: The CRHA's Board of Commissioners was unable to meet to approve the SEMAP certification prior to its due date of February 29, 2015, because of severe weather. The board meets on the fourth Wednesday of each month. On the fourth Wednesday of February evening activities were cancelled due to a snow storm. CRHA was permitted to submit its SEMAP certification after the due date.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Franklin Township Housing Authority (FTHA), Somerset, NJ. e, VA.

Nature of Requirement: HUD's regulation at 24 CFR 985.101(a) states a PHA must submit the HUD-required Section Eight Management Assessment Program (SEMAP) certification form within 60 calendar days after the end of its fiscal year.

Granted By: Lourdes Castro Ramirez, Principal Deputy Assistant Secretary for Public and Indian Housing.

Date Granted: March 27, 2015.

Reason Waived: FTHA is a small deregulated PHA with 230 voucher units. FTHA submitted its last SEMAP certification for its fiscal year ending September 30, 2013, when small PHAs were not required to submit a biennial certification. Its designation for that period was high performer. However, all PHAs (including small PHAs) were required to submit SEMAP certifications for the period ending September 30, 2014. Since FTHA had submitted its certification the year before, there was confusion regarding these submission requirements and the certification was not submitted for the period ending September 30, 2014. FTHA was permitted to submit its SEMAP certification after the due date.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Garden State Episcopal Community Development Corporation (GSECDC), Jersey City, NJ.

Nature of Requirement: HUD's regulation at 24 CFR 985.101(a) states a PHA must submit the HUD-required Section Eight Management Assessment Program (SEMAP) certification form within 60 calendar days after the end of its fiscal year.

Granted By: Lourdes Castro Ramirez, Principal Deputy Assistant Secretary for Public and Indian Housing.

Date Granted: March 27, 2015.

Reason Waived: This waiver was granted since the SEMAP certification could not be submitted due to an issue with the Information Management System/Public and Indian Housing Information Center (IMS/PIC) when information for the GSECDC was updated. GSECDC was permitted to submit its SEMAP certification after the due date.

Contact: Becky Primeaux, Director, Housing Voucher Management and Operations Division, Office of Public Housing and Voucher Programs, Office of Public and Indian Housing, Department of Housing and Urban Development, 451 Seventh Street SW., Room 4210, Washington, DC 20410, telephone (202) 708-0477.

[FR Doc. 2015-15324 Filed 6-19-15; 8:45 am]

BILLING CODE 4210-67-P